DEPARTMENT OF TRANSPORTATION

Federal Motor Carrier Safety Administration

[Docket No. FMCSA-2009-0150]

Medical Review Board (MRB) Public Meeting

AGENCY: Federal Motor Carrier Safety Administration (FMCSA), (DOT).

ACTION: Notice of correction.

SUMMARY: FMCSA notes two corrections on the Federal Register notice announcing the Medical Review Board meeting scheduled for July 1, 2009 from 9 a.m.-4:20 p.m. at the U.S. Department of Transportation.

FOR FURTHER INFORMATION CONTACT: Dr. Mary D. Gunnels, Director, Medical Programs, 202-366-4001.

SUPPLEMENTARY INFORMATION:

On June 12, 2009, FMCSA published a Notice in the Federal Register announcing a public meeting of the Medical Review Board to be held on July 1, 2009 (74 FR 28093). The notice included two incorrect Web sites. The first one is http://Docketinfo.dot.gov; the correct Web site is http://www.regulations.gov. The second error was http://www.fmcsa.dot.gov/mrb; the correct Web site is http://mrb.fmcsa.dot.gov.

Issued on: June 18, 2009.
Larry W. Minor,
Associate Administrator for Policy and Program Development.

[FR Doc. E9-14917 Filed 6-24-09; 8:45 am]

BILLING CODE 4910-EX-P